DEPARTMENT OF TRANSPORTATION

Federal Aviation Administration

14 CFR Part 73

[Docket No. FAA-2007-28632; Airspace Docket No. 07-ASW-3]

RIN 2120-AA66

Proposed Modification of Restricted Area 3404; Crane, IN

AGENCY: Federal Aviation Administration (FAA), DOT.

ACTION: Notice of proposed rulemaking (NPRM).

SUMMARY: This action proposes to modify Restricted Area 3404 (R-3404) at Crane, IN. The United States (U.S.) Navy requests that the FAA take action to modify R-3404 for the protection of nonparticipating aircraft from fragments generated during the disposal of a variety of types of ordnance.

DATES: Comments must be received on or before December 7, 2007.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2007-28632 and Airspace Docket No. 07-ASW-3, at the beginning of your comments. You may also submit comments through the Internet at http://www.regulations.gov.

FOR FURTHER INFORMATION CONTACT: Steve Rohring, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2007-28632 and Airspace Docket No. 07-ASW-3) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2007-28632 and Airspace Docket No. 07-ASW-3.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov. Recently published rulemaking documents can also be accessed through the FAA's Web page at http://www.faa.gov or the Federal Register's Web page at http://www.gpoaccess.gov/fr/index.html.

You may review the public docket containing the proposal, any comments received and any final disposition in person at the Docket Management Facility (see ADDRESSES section for address and phone number) between 9 a.m. and 5 p.m., Monday through Friday, except Federal holidays. An informal docket may also be examined during normal business hours at the office of the Central Service Center, Federal Aviation Administration, 2601 Meacham Blvd; Fort Worth, TX 76193-0500.

Persons interested in being placed on a mailing list for future NPRM's should contact the FAA's Office of Rulemaking, (202) 267-9677, for a copy of Advisory Circular No. 11-2A, Notice of Proposed Rulemaking Distribution System, which describes the application procedure.

History

On January 31, 2007, the U.S. Navy requested that the FAA take action to modify R-3404. The requested action is needed to provide additional airspace to protect nonparticipating aircraft from blast fragments generated during the disposal of a variety of types of ordnance at the Naval Support Activity Crane's (NSA Crane) Demolition Range.

The Proposal

At the request of the U.S. Navy, the FAA is proposing an amendment to Title 14 Code of Federal Regulations (14 CFR) part 73 to modify R-3404. The modification would better center the restricted area over NSA Crane's blast area, enlarge the restricted area from a 1/2-nm radius to a 1-nm radius, increase the ceiling from 2,500 feet MSL to 4,100 feet MSL, and change the name of the using agency from “Commanding Officer, Naval Ammunition Depot, Crane, IN” to “U.S. Navy, Crane Division, Naval Surface Warfare Center tenant of NSA Crane.”

Section 73.34 of Title 14 CFR part 73 was republished in FAA Order 7400.8N, effective February 16, 2007.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify R-3404, Crane, IN., for the protection of nonparticipating aircraft during the disposal of a variety of types of ordnance.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.34 [Amended]

2. § 73.34 is amended as follows:

* * * * *

R-3404—Crane, IN [Revised]

Boundaries. That airspace within a 1 NM radius of lat. 38°49′30″ N., long. 86°50′08″ W.

Designated altitudes. Surface to and including 4,100 feet MSL.

Times of Designation. Sunrise to sunset, daily from May 1 through and including November 1. Other times by NOTAM 24 hours in advance.

Controlling Agency. FAA, Terre Haute ATCT.

Using Agency. U.S. Navy, Crane Division, Naval Surface Warfare Center tenant of NSA Crane

* * * * *

Issued in Washington, DC, October 16, 2007.
Paul Gallant,
Acting Manager, Airspace and Rules Group.

[FR Doc. E7-20795 Filed 10-22-07; 8:45 am]

BILLING CODE 4910-13-P